DEPARTMENT OF ENERGY

National Nuclear Security Administration

Advisory Committee for Nuclear Security; Correction

AGENCY: Office of Defense Programs, National Nuclear Security Administration, Department of Energy.

ACTION: Notice of closed meeting; correction.

SUMMARY: On June 26, 2023, the Department of Energy published a notice of closed meeting announcing a meeting on July 19, 2023, of the Advisory Committee for Nuclear Security (88 FR 121). This document makes a correction to that notice.

FOR FURTHER INFORMATION CONTACT: Allyson Koncke-Fernandez, Office of Policy and Strategic Planning (NA-1.1) National Nuclear Security Administration, U.S. Department of Energy, 1000 Independence Ave. SW, Washington, DC 20585, (202) 287-5327; allyson.koncke-fernandez@nnsa.doe.gov.

SUPPLEMENTARY INFORMATION:

Corrections

In the Federal Register of April 24, 2023, in FR Doc. 2023-13472, on page 41392, please make the following corrections:

In that notice under DATES, second column, first paragraph, the meeting time has been changed. The original time was 10:00 a.m. to 3:00 p.m. The new time is 9:00 a.m. to 5:00 p.m.

The reason for the correction is a scheduling conflict with the original meeting time.

Signed in Washington, DC, on June 27, 2023.
LaTanya Butler,
Deputy Committee Management Officer.

[FR Doc. 2023-14035 Filed 6-30-23; 8:45 am]

BILLING CODE 6450-01-P